NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on June 12-13, 2003, in Conference Room T-2B3, 11545 Rockville Pike, Rockville, Maryland. The date of this meeting was previously published in the Federal Register on Monday, November 20, 2002 (67 FR 70094).

Thursday, June 12, 2003

8:30 a.m.—8:35 a.m.: Opening Statement by the ACRS Chairman (Open)—The ACRS Chairman will make opening remarks regarding the conduct of the meeting.

8:35 a.m.—12:45 p.m.: Workshop on Safety Culture: Panel A—Collective Understanding of Safety Culture (Open)—The Committee will hear presentations by and hold discussions with representatives of the NRC staff, nuclear industry, private consultants, and public regarding collective understanding of safety culture.

1:45 p.m.—5 p.m.: Workshop on Safety Culture (continued): Panel B—Attributes of Safety Culture (Open)—The Committee will hear presentations by and hold discussions with representatives of the NRC staff, nuclear industry, private consultants, and public regarding attributes of safety culture.

5 p.m.—6 p.m.: Conclusions and Outcome of the Workshop (Open)—The Committee will discuss the conclusions resulting from the Workshop.

Friday, June 13, 2003

8:30 a.m.—8:35 a.m.: Opening Remarks by the ACRS Chairman (Open)—The ACRS Chairman will make opening remarks regarding the conduct of the meeting.

8:35 a.m.—10 a.m.: Update to Generic License Renewal Guidance Documents (Open)—The Committee will hear presentations by and hold discussions with representatives of the NRC staff regarding potential improvements to license renewal guidance documents (Generic Aging Lessons Learned Report; Regulatory Guide 1.188, Standard Format and Content for Applications to Renew Nuclear Power Plant Operating Licenses; Standard Review Plan for Review of License Renewal Applications; and NEI 95-10, Industry Guideline for Implementing the Requirements of 10 CFR part 54).

10 a.m.—10:30 a.m.: Subcommittee Report on the Fort Calhoun License Renewal Application (Open)—Report by the Chairman of the ACRS Subcommittee on License Renewal regarding the Subcommittee's review of the license renewal application for the Fort Calhoun Station Unit 1 and the associated NRC staff's Safety Evaluation Report.

10:45 a.m.—11:45 a.m.: Proposed Strategy for Preparing the 2004 ACRS Report on the NRC Safety Research Program (Open)—Report by the Chairman of the ACRS Subcommittee on Safety Research Program regarding a proposed strategy for preparing the 2004 ACRS report on the NRC Safety Research Program.

12:45 p.m.—1:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

1:45 a.m.—2 p.m.: Reconciliation of ACRS Comments and Recommendations (Open)—The Committee will discuss the responses from the NRC Executive Director for Operations (EDO) to comments and recommendations included in recent ACRS reports and letters. The EDO responses are expected to be made available to the Committee prior to the meeting.

2:15 p.m.—6:30 p.m.: Preparation of ACRS Reports (Open/Closed)—The Committee will discuss proposed ACRS reports on matters considered during this meeting. In addition, the Committee will consider a proposed ACRS report on Safeguards and Security (Closed). The discussion of the Safeguards and Security report will be held in Room T-8E8.

6:30 p.m.—7 p.m.: Miscellaneous (Open)—The Committee will discuss matters related to the conduct of Committee activities and matters and specific issues that were not completed during previous meetings, as time and availability of information permit.

Procedures for the conduct of and participation in ACRS meetings were published in the Federal Register on October 11, 2002 (67 FR 63460). In accordance with those procedures, oral or written views may be presented by members of the public, including representatives of the nuclear industry. Electronic recordings will be permitted only during the open portions of the meeting. Persons desiring to make oral statements should notify the Associate Director for Technical Support named below five days before the meeting, if possible, so that appropriate arrangements can be made to allow necessary time during the meeting for such statements. Use of still, motion picture, and television cameras during the meeting may be limited to selected portions of the meeting as determined by the Chairman. Information regarding the time to be set aside for this purpose may be obtained by contacting the Associate Director prior to the meeting. In view of the possibility that the schedule for ACRS meetings may be adjusted by the Chairman as necessary to facilitate the conduct of the meeting, persons planning to attend should check with the Associate Director if such rescheduling would result in major inconvenience.

In accordance with subsection 10(d) Pub. L. 92-463, I have determined that it is necessary to close a portion of this meeting noted above to discuss and protect information classified as national security information pursuant to 5 U.S.C. 552b(c)(1).

Further information regarding topics to be discussed, whether the meeting has been canceled or rescheduled, as well as the Chairman's ruling on requests for the opportunity to present oral statements and the time allotted therefor can be obtained by contacting Dr. Sher Bahadur, Associate Director for Technical Support (301) 415-0138), between 7:30 a.m. and 4:15 p.m., ET.

ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections/ (ACRS & ACNW Mtg schedules/agendas).

Videoteleconferencing service is available for observing open sessions of ACRS meetings. Those wishing to use this service for observing ACRS meetings should contact Mr. Theron Brown, ACRS Audio Visual Technician (301) 415-8066), between 7:30 a.m. and 3:45 p.m., ET, at least 10 days before the meeting to ensure the availability of this service. Individuals or organizations requesting this service will be responsible for telephone line charges and for providing the equipment and facilities that they use to establish the videoteleconferencing link. The availability of videoteleconferencing services is not guaranteed.

Dated: May 20, 2003.
Andrew L. Bates,
Advisory Committee Management Officer.

[FR Doc. 03-13142 Filed 5-23-03; 8:45 am]

BILLING CODE 7590-01-P